DEPARTMENT OF COMMERCE

National Oceanic and Atmospheric Administration

[I.D. 052901A]

Endangered and Threatened Species; Take of Anadromous Fish

AGENCY: National Marine Fisheries Service (NMFS), National Oceanic and Atmospheric Administration (NOAA), Commerce.

ACTION: Receipt of applications for scientific research permits (1317, 1318, 1319, 1320, and 1321) and receipt of an application to modify permit (1175).

SUMMARY: NMFS has received new applications for permits for takes of threatened species for the purposes of scientific research and/or enhancement under the Endangered Species Act (ESA) from the Biological Services Division of the U.S. Geological Survey (USGS) in Cook, WA; the Fish Division of the Oregon Department of Fish and Wildlife (ODFW) in Portland, OR; Georgia-Pacific West (GPW) in Bellingham, WA; the town of Marysville, WA; and Mr. Kenneth Witty, a fisheries consultant from Enterprise, OR, working on a project for the U.S. Bureau of Reclamation. In addition, the Gifford Pinchot National Forest (GPNF), in Vancouver WA, is seeking to modify a previous permit (1175) that NMFS originally granted in 1998.

DATES: Comments or requests for a public hearing on any of the new applications or the modification request must be received no later than 5 p.m. Pacific daylight time on July 9, 2001.

ADDRESSES: Written comments on the new applications or the modification request should be sent to Protected Resources Division (PRD), F/NWO3, 525 NE Oregon Street, Suite 500, Portland, OR 97232-2737 (phone: 503-230-5400). Comments may also be sent via fax to 503-230-5435. Comments will not be accepted if submitted via e-mail or the Internet.

FOR FURTHER INFORMATION CONTACT: Rob Clapp, Portland, OR at phone: 503-231-2314, Fax: 503-230-5435, e-mail: Robert.Clapp@noaa.gov.

SUPPLEMENTARY INFORMATION: The following ESA-listed species and evolutionarily significant units (ESUs) are covered in this notice:

Chinook salmon (Oncorhynchus tshawytscha): Threatened Lower Columbia River (LCR); Threatened Upper Willamette River (UWR); and Threatened Puget Sound (PS).

Chum Salmon (O. nerka): Threatened Columbia River (CR).

Coho salmon (O. kisutch): Threatened Oregon Coast (OC).

Steelhead (O. mykiss): Threatened LCR; Threatened Middle Columbia River (MCR); and Threatened UWR.

New Applications Received

The USGS is seeking a 5-year permit (1317) to take (capture and handle) juvenile MCR steelhead during scientific research efforts on the Toppenish National Wildlife Refuge (TNWR), Toppenish Creek, WA. Toppenish Creek is a tributary of the Yakima River. The purpose of the study is to determine whether juvenile MCR steelhead are entering the TNWR’s wetland management units during the spring flooding of Toppenish creek and becoming trapped there-thus becoming vulnerable to avian predators, high summer water temperatures, and stranding. The study will benefit MCR steelhead by showing whether they are straying into the wetland management units and managing to escape back to Toppenish Creek to continue their downstream migration. If the juvenile MCR steelhead are being trapped in the management units by falling water levels, the study will also be used to help guide TNWR operations so that the fish are less likely to be harmed in the future. The USGS proposes to capture, handle, and release juvenile MCR steelhead. Baited minnow traps will be the primary capture method, but fyke nets or electrofishing may be used if the traps are not successful.

The ODFW is seeking a 5-year permit (1318) to annually take LCR chinook salmon, UWR chinook salmon, Oregon Coast coho salmon, LCR steelhead, and UWR steelhead during the course of conducting five separate scientific research projects. Only juveniles will be taken in these projects-except for Project 3, for which the ODFW is requesting a permit to handle and release up to five adult MCR steelhead.

Project 1. The purpose of Project 1 is to determine the effects that bank treatment and near-shore development have on anadromous and resident fish in the lower Willamette River. The ODFW proposes to capture, handle, and release juvenile LCR and UWR chinook salmon. These fish will be captured with beach seines and (possibly) by mid-water trawls, gill nets, and boat electrofishing. The ODFW requests a permit for a small amount of indirect mortality that may be associated with these activities. The project will benefit listed salmon by providing new information on the lower Willamette River ecosystem which, in turn, will help guide future waterway management and development in the Willamette and other river basins.

Project 2. The purpose of Project 2 is to determine trends in warmwater fish communities and answer long-term management questions for warmwater species statewide. The ODFW requests permission to capture, handle, and release juvenile LCR and UWR chinook, juvenile UWR and LCR steelhead, and juvenile OC coho while conducting boat electrofishing transects in warm- and backwater habitats. The ODFW requests a permit for a small amount of indirect mortality that may be associated with these activities. The project will benefit listed salmonids by providing information on fish population structures and species interactions that will be used to design and implement management actions that conserve and protect listed species.

Project 3. The purpose of Project 3 is to estimate population numbers and record individual fish metrics among redband trout in the Deschutes River, OR. The ODFW requests permission to capture, handle and release juvenile and adult MCR steelhead while conducting boat electrofishing transects for redband trout in the Deschutes River. The ODFW requests a permit for a small amount of indirect juvenile mortality that may be associated with these activities. They are also seeking a permit that would allow them a small amount of annual incidental-and non-lethal-take of adult MCR steelhead. The project will benefit listed salmonids by helping assess the health of the fish community in the lower 100 miles of the Deschutes River and by helping managers determine if fluctuations in local anadromous fish populations are the result of mortality occurring during the freshwater stages of their life cycles.

Project 4. The purpose of Project 4 is to determine whether spring chinook salmon are naturally reproducing in the Mohawk River system (a tributary to the McKenzie River). The ODFW requests permission to capture, handle and release juvenile UWR chinook while conducting boat electrofishing transects and, possibly, seining and backpack electrofising in the Mohawk River. The ODFW requests a permit for a small amount of indirect mortality that may be associated with these activities. The project will benefit listed salmonids by determining if naturally-reproducing populations of chinook have been reestablished in the area-thus allowing managers to take them into account in future decisions.

Project 5. The purpose of Project 5 is to conduct a genetic characterization of rainbow trout in the McKenzie River-a tributary to the UWR. The ODFW requests permission to capture, handle, and release juvenile UWR chinook while conducting boat electrofishing transects for rainbow trout on the McKenzie River. The ODFW requests a permit for a small amount of indirect mortality that may be associated with these activities. The project will benefit listed salmon by helping document the distribution, abundance, and condition of UWR chinook.

GPW is seeking a 5-year permit (1319) to annually take juvenile, naturally produced and artificially propagated PS chinook salmon associated with scientific research to be conducted at a log pond located at the mouth of the Whatcom Waterway. The purpose of this study is to monitor the biological effectiveness of a sediment cap placed over the surface of the log pond. GPW proposes to capture (using beach seines), handle, and release juvenile PS chinook salmon. GPW also requests a permit for a small amount of indirect mortality that may be associated with the study. The research will benefit listed species by yielding information that mangers will use to determine if the cap placement helps habitat recovery.

The City of Marysville, WA, is seeking a 3-year permit (1320) to annually take juvenile, naturally produced and artificially propagated PS chinook salmon associated with scientific research to be conducted in a 13-acre intertidal wetland created in the Snohomish River estuary. The purpose of this study is to monitor the wetland’s effectiveness as estuarine habitat for salmonids and other fish species and determine its overall functional value. The City of Marysville proposes to capture (using beach seines and dip nets), handle, and release juvenile PS chinook salmon. The research will benefit PS chinook by yielding information that will help determine the value of this type of habitat restoration.

Mr. Kenneth Witty is seeking a 5-year permit to annually take threatened MCR juvenile steelhead during the course of scientific research in the Yakima River basin in Washington State. Mr. Witty proposes to capture (using backpack electrofishing equipment), handle, tag, and release juvenile MCR steelhead. The purpose of the research is to study fish communities in the irrigation drainage networks of the lower Yakima River basin and determine-among other pieces of information-the extent to which threatened steelhead inhabit those networks. Mr. Witty also requests that the permit allow a small amount of indirect juvenile steelhead mortality that may be associated with these activities. The research will benefit threatened MCR steelhead by giving Federal managers data on where the fish are in the Yakima basin irrigation system-thus helping them make decisions about how to run the system in a way that conserves the species.

Modification Requests Received

In 1998, NMFS issued a 5-year permit (1175) to the GPNF that authorized takes of adult and juvenile LCR steelhead for the purpose of scientific research. NMFS has received a request to amend the application by allowing adult and juvenile LCR chinook salmon, juvenile, naturally produced and artificially propagated PS chinook salmon, and adult CR chum salmon to be taken. The adult fish would simply be observed; the juvenile fish would be captured, handled, and released. The GPNF also requests that the permit allow a small amount of indirect juvenile LCR and PS chinook salmon mortality that may be associated with research activities. The purpose of the research is to conduct fish distribution and habitat quality surveys across the GPNF and evaluate the biological benefits of habitat improvement projects. The research will benefit listed species by yielding information that will be used in broad-scale analyses and project level planning to protect high-value habitat and restore degraded habitat.

Dated: June 1, 2001.
Phil Williams,
Acting Chief, Endangered Species Division, Office of Protected Resources, National Marine Fisheries Service.

[FR Doc. 01-14405 Filed 6-6-01; 8:45 am]

BILLING CODE 3510-22-S